DEPARTMENT OF THE TREASURY

Submission for OMB Review; Comment Request

April 26, 2016.

The Department of the Treasury will submit the following information collection requests to the Office of Management and Budget (OMB) for review and clearance in accordance with the Paperwork Reduction Act of 1995, Public Law 104-13, on or after the date of publication of this notice.

DATES: Comments should be received on or before May 31, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Alcohol and Tobacco Tax and Trade Bureau (TTB)

OMB Control Number: 1513-0035.

Type of Review: Revision of a currently approved collection.

Title: Inventory—Export Warehouse Proprietor.

Form: TTB F 5220.3.

Abstract: Export warehouse proprietors use TTB F 5220.3 to record inventories of tobacco products, cigarette papers and tubes, and processed tobacco as required by Federal law at 26 U.S.C. 5721 and by the TTB regulations.

Affected Public: Businesses or other for-profits.

Estimated Total Annual Burden Hours: 430.

OMB Control Number: 1513-0063.

Type of Review: Revision of a currently approved collection.

Title: Stills: Notices, Registration, and Records (TTB REC 5150/8).

Abstract: The Internal Revenue Code (IRC) at 26 U.S.C. 5101 and 5179, and the related implementing regulations have, through notice, registration, and recordkeeping requirements, established a comprehensive system for regulating stills. This information collection covers the collections of information mandated or authorized by law or regulation with respect to stills, and consists of notices regarding the manufacture and set up of stills, the registration of stills, notices regarding changes in ownership or location of stills, and records related to these notices and registrations. TTB uses this information to identify distillers and to account for and regulate the distillation of spirits to protect the revenue.

Affected Public: Businesses or other for-profits.

Estimated Total Annual Burden Hours: 42.

OMB Control Number: 1513-0064.

Type of Review: Revision of a currently approved collection.

Title: Importer's Records and Reports (TTB REC 5170/1).

Abstract: This recordkeeping and reporting requirement concerns the records which must be maintained by the importer as well as the letterhead applications and notices required to be submitted to TTB. The records are used by TTB to verify that operations are being conducted in compliance with the law and to ensure that all taxes and duties have been paid on imported spirits, thus protecting the revenue.

Affected Public: Businesses or other for-profits.

Estimated Total Annual Burden Hours: 251.

OMB Control Number: 1513-0068.

Type of Review: Revision of a currently approved collection.

Title: Records of Operations—Manufacturer of Tobacco Products or Processed Tobacco (TTB REC 5210/1).

Abstract: Under the IRC at 26 U.S.C. 5741, manufacturers of tobacco products or processed tobacco are required to keep such records as the Secretary of the Treasury prescribes by regulation. The TTB regulations specify the records that such manufacturers must keep, including records showing the information necessary to provide adequate accountability over the receipt, production, and disposition of these commodities in order to prevent diversion and protect Federal excise tax revenue.

Affected Public: Businesses or other for-profits.

Estimated Total Annual Burden Hours: 500.

OMB Control Number: 1513-0070.

Type of Review: Revision of a currently approved collection.

Title: Tobacco Export Warehouse—Record of Operations (TTB REC 5220/1).

Abstract: In general, export warehouses store untaxpaid tobacco products, processed tobacco, and cigarette papers and tubes until these commodities are exported. Under the authority of the IRC at 26 U.S.C. 5741, the TTB regulations require certain records of receipt and disposition of these commodities in order to protect the revenue and prevent diversion. The required records allow TTB to verify that the commodities have been exported or that Federal tobacco excise tax liabilities have been satisfied.

Affected Public: Businesses or other for-profits.

Estimated Total Annual Burden Hours: 1.

OMB Control Number: 1513-0072.

Type of Review: Revision of a currently approved collection.

Title: Applications and Notices—Manufacturers of Nonbeverage Products (TTB REC 5530/1).

Abstract: Under the authority of 26 U.S.C. 5132, TTB regulations require that letterhead applications and notices be submitted by manufacturers of nonbeverage products who are using distilled spirits on which drawback will be claimed. TTB uses this information to ensure that operations are in compliance with the law, to prevent spirits from being diverted to beverage use, and to protect the revenue.

Affected Public: Businesses or other for-profits.

Estimated Total Annual Burden Hours: 515.

OMB Control Number: 1513-0077.

Type of Review: Revision of a currently approved collection.

Title: Records of Things of Value to Retailers, and Occasional Letter Reports from Industry Members Regarding Information on Sponsorships, Advertisements, Promotions, etc., under the FAA Act (TTB REC 5190/1).

Abstract: These records and occasional letter reports are used to show compliance with the trade practices provisions of the Federal Alcohol Administration Act at 27 U.S.C. 205(b), which prevent alcohol beverage wholesalers, producers, or importers from giving things of value to retail liquor dealers, and which prohibit industry members from conducting certain types of sponsorships, advertisements, promotions, etc., unless the practice is specifically exempted by regulation.

Affected Public: Businesses or other for-profits.

Estimated Total Annual Burden Hours: 21.

OMB Control Number: 1513-0078.

Type of Review: Revision of a currently approved collection.

Title: Application for Permit to Manufacture or Import Tobacco Products or Processed Tobacco or to Operate an Export Warehouse and Applications to Amend.

Form: TTB F 5200.3, TTB F 5200.16, TTB F 5230.4, TTB F 5230.5.

Abstract: The IRC, at 26 U.S.C. 5712 and 5713, requires that manufacturers and importers of tobacco products or processed tobacco and export warehouse proprietors apply for and obtain a permit before engaging in such operations. Tobacco industry members use the applications that make up this information collection to obtain the new, or amend the existing, TTB permits necessary to engage in these businesses.

Affected Public: Businesses or other for-profits.

Estimated Total Annual Burden Hours: 2,277.

OMB Control Number: 1513-0080.

Type of Review: Revision of a currently approved collection.

Title: Distilled Spirits Plant Equipment and Structures (TTB REC 5110/12).

Abstract: In general, the IRC at 26 U.S.C. 5001 imposes a Federal excise tax of $13.50 per proof gallon on all distilled spirits, other than those used for certain authorized industrial or nonbeverage purposes, produced or imported into the United States. To safeguard the revenue from this tax and facilitate inspections, the IRC at 26 U.S.C. 5178 authorizes the Secretary to issue regulations relating to the location, construction, and arrangement of distilled spirits plants (DSPs), including requirements for the identification of their distilling apparatus, pipes, pumps, tanks, and machinery. The IRC at 26 U.S.C. 5180 requires each DSP proprietor to post an exterior sign at their place of business, in such form and containing such information as the Secretary by regulation prescribes, identifying the proprietor, and the business or businesses in which the proprietor is engaged. In addition, 26 U.S.C. 5206 requires that containers of distilled spirits be “marked, branded, or identified” in such manner as the Secretary prescribes.

Affected Public: Businesses or other for-profits.

Estimated Total Annual Burden Hours: 1.

OMB Control Number: 1513-0084.

Type of Review: Revision of a currently approved collection.

Title: Labeling of Sulfites in Alcohol Beverages.

Abstract: In accordance with TTB's consumer protection responsibilities, as mandated by law, we require label disclosure statements on all alcoholic beverage products released from U.S. bottling premises or customs custody that contain 10 parts per million or more of sulfites. Sulfites have been shown to cause allergic reactions in certain persons, and this label disclosure warns such persons of the presence of sulfites in alcohol beverages so that they may avoid this allergen.

Affected Public: Businesses or other for-profits.

Estimated Total Annual Burden Hours: 12,798.

Brenda Simms,
Treasury PRA Clearance Officer.

[FR Doc. 2016-10085 Filed 4-28-16; 8:45 am]

BILLING CODE 4810-31-P